INTERNATIONAL TRADE COMMISSION

[USITC SE-15-009]

Sunshine Act Meeting

Agency Holding the Meeting: United States International Trade Commission.

Time and Date: March 23, 2015 at 11:00 a.m.

Place: Room 101, 500 E Street SW., Washington, DC 20436, Telephone: (202) 205-2000.

Status: Open to the public.

Matters to be Considered: 1. Agendas for future meetings: None.

2. Minutes.

3. Ratification List.

4. Vote in Inv. Nos. 701-TA-459 and 731-TA-1155 (Review) (Commodity Matchbooks from India). The Commission is currently scheduled to complete and file its determinations and views of the Commission on April 2, 2015.

5. Outstanding action jackets: None.

In accordance with Commission policy, subject matter listed above, not disposed of at the scheduled meeting, may be carried over to the agenda of the following meeting. Earlier announcement of this meeting was not possible.

By order of the Commission.
Issued: March 17, 2015.
William R. Bishop,
Supervisory Hearings and Information Officer.

[FR Doc. 2015-06430 Filed 3-17-15; 4:15 pm]

BILLING CODE 7020-02-P